DEPARTMENT OF TRANSPORTATION

Federal Aviation Administration

14 CFR Part 39

[Docket No. FAA-2010-0030; Directorate Identifier 2009-NM-135-AD]

RIN 2120-AA64

Airworthiness Directives; The Boeing Company Model 757 Airplanes

AGENCY: Federal Aviation Administration (FAA), DOT.

ACTION: Notice of proposed rulemaking (NPRM).

SUMMARY: We propose to adopt a new airworthiness directive (AD) for all Model 757 airplanes. This proposed AD would require repetitive inspections for corrosion and cracking in the front spar lower chord at the four fastener locations common to the side link support fitting at wing station (WS) 292, and corrective actions if necessary. This proposed AD results from reports that several operators have found cracking in the front spar lower chord at the four fastener locations common to the side link support fitting at WS 292. We are proposing this AD to detect and correct such corrosion and cracking, which, if not corrected, could grow and result in structural failure of the spar.

DATES: We must receive comments on this proposed AD by March 8, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Chris Hartman, Aerospace Engineer, Airframe Branch, ANM-120S, FAA, Seattle Aircraft Certification Office (ACO), 1601 Lind Avenue, SW., Renton, Washington 98057-3356; telephone (425) 917-6432; fax (425) 917-6590.

SUPPLEMENTARY INFORMATION:

Comments Invited

We invite you to send any written relevant data, views, or arguments about this proposed AD. Send your comments to an address listed under the ADDRESSES section. Include “Docket No. FAA-2010-0030; Directorate Identifier 2009-NM-135-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports that, over the past 7 years, several operators have found cracking in the front spar lower chord at the four fastener locations common to the side link support fitting at WS 292. This area is not covered by the normal maintenance activities. The length of the cracks ranged from 0.025 inch to 0.080 inch on airplanes that had accumulated from 13,100 to 29,209 total flight cycles. The cracks were repaired by oversizing the holes and installing freeze plugs. Such cracking, if not detected and corrected, could grow and result in structural failure of the spar.

Relevant Service Information

We have reviewed Boeing Special Attention Service Bulletin 757-57-0065, dated May 14, 2009. This service bulletin describes procedures for repetitive ultrasonic and general visual inspections for cracking and corrosion of the front spar lower chord at the four fastener locations common to the side link support fitting at WS 292. For airplanes on which any cracking or corrosion is found, Boeing Special Attention Service Bulletin 757-57-0065, dated May 14, 2009, specifies contacting Boeing for additional repair instructions and doing the repair.

The compliance time for doing the inspections is at the latest of the following times, as applicable:

• Before 37,500 total flight cycles or 20 years since the date of issuance of the original standard certificate of airworthiness, whichever occurs first.

• Within 3,000 flight cycles after the date of the service bulletin.

• Within 12,000 flight cycles after the incorporation of the modification requirements of AD 2004-12-07, Amendment 39-13666 (69 FR 33561, June 16, 2004), or AD 2003-18-05, Amendment 39-13296 (68 FR 53496, September 11, 2003).

FAA's Determination and Requirements of This Proposed AD

We are proposing this AD because we evaluated all relevant information and determined the unsafe condition described previously is likely to exist or develop in other products of the same type design. This proposed AD would require accomplishing the actions specified in the service information described previously, except as discussed under “Differences Between the Proposed AD and Service Bulletin.”

Explanation of Compliance Times

We have provided two compliance times in paragraph (g) of this AD. Paragraph (g)(1) of this AD requires a compliance time specified in paragraph 1.E., “Compliance,” of Boeing Special Attention Service Bulletin 757-57-0065, dated May 14, 2009. Boeing Special Attention Service Bulletin 757-57-0065, dated May 14, 2009, contains a compliance time that refers to modifications required by AD 2003-18-05, Amendment 39-13296 (68 FR 53496, September 11, 2003); and AD 2004-12-07, Amendment 39-13666 (69 FR 33561, June 16, 2004). We anticipate superseding these ADs. As a result, we have provided an additional compliance time in paragraph (g)(2) of this AD which is contingent upon having done the modifications required by those two ADs.

Differences Between the Proposed AD and Service Bulletin

Boeing Special Attention Service Bulletin 757-57-0065, dated May 14, 2009, specifies to contact the manufacturer for instructions on how to repair certain conditions, but this proposed AD would require repairing those conditions in one of the following ways:

• Using a method that we approve; or

• Using data that meet the certification basis of the airplane, and that have been approved by the Boeing Commercial Airplanes Organization Designation Authorization (ODA) that we have authorized to make those findings.

Costs of Compliance

We estimate that this proposed AD would affect 668 airplanes of U.S. registry. We also estimate that it would take about 6 work-hours per airplane to comply with this proposed AD. The average labor rate is $80 per work-hour. Based on these figures, we estimate the cost of this proposed AD to the U.S. operators to be $320,640 per inspection cycle, or $480 per airplane, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2010-0030; Directorate Identifier 2009-NM-135-AD.

Comments Due Date

(a) We must receive comments by March 8, 2010.

Affected ADs

(b) None.

Applicability

(c) This AD applies to all The Boeing Company Model 757-200, -200PF, -200CB, and -300 series airplanes, certificated in any category.

Subject

(d) Air Transport Association (ATA) of America Code 57: Wings.

Unsafe Condition

(e) This AD results from reports of cracking at the front spar lower chord at the four fastener locations common to the side link support fitting at wing station (WS) 292. The Federal Aviation Administration is issuing this AD to detect and correct such cracking and corrosion, which, if not corrected, could grow and result in structural failure of the spar.

Compliance

(f) You are responsible for having the actions required by this AD performed within the compliance times specified, unless the actions have already been done.

Inspect for Cracking and Corrosion

(g) At the later of the times in paragraphs (g)(1) and (g)(2) of this AD, do ultrasonic and general visual inspections for cracking and corrosion of the front spar lower chord at the four fastener locations common to the side link support fitting at WS 292, in accordance with the Accomplishment Instructions of Boeing Special Attention Service Bulletin 757-57-0065, dated May 14, 2009. Where Boeing Special Attention Service Bulletin 757-57-0065, dated May 14, 2009, specifies a compliance time “after the date on this service bulletin,” this AD requires compliance at the specified time after the effective date of this AD. Repeat the inspection thereafter at intervals not to exceed 12,000 flight cycles.

(1) At the applicable time specified in paragraph 1.E., “Compliance,” of Boeing Special Attention Service Bulletin 757-57-0065, dated May 14, 2009.

(2) Within 12,000 flight cycles after doing the modification of the nacelle and wing structure in accordance with Boeing Service Bulletin 757-54-0034 or Boeing Service Bulletin 757-54-0035.

(h) If any cracking or corrosion is found during any inspection required by this AD: Before further flight, repair the cracking or corrosion using a method approved in accordance with the procedures specified in paragraph (i) of this AD.

Alternative Methods of Compliance (AMOCs)

(i)(1) The Manager, Seattle Aircraft Certification Office (ACO), FAA, has the authority to approve AMOCs for this AD, if requested using the procedures found in 14 CFR 39.19. Send information to ATTN: Chris Hartman, Aerospace Engineer, Airframe Branch, ANM-120S, FAA, Seattle Aircraft Certification Office (ACO), 1601 Lind Avenue, SW., Renton, Washington 98057-3356; telephone (425) 917-6432; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD, if it is approved by the Boeing Commercial Airplanes Organization Designation Authorization (ODA) that has been authorized by the Manager, Seattle ACO, to make those findings. For a repair method to be approved, the repair must meet the certification basis of the airplane, and the approval must specifically refer to this AD.

Issued in Renton, Washington, on January 14, 2010.
Ali Bahrami,
Manager, Transport Airplane Directorate, Aircraft Certification Service.

[FR Doc. 2010-1137 Filed 1-21-10; 8:45 am]

BILLING CODE 4910-13-P